DEPARTMENT OF COMMERCE

National Oceanic and Atmospheric Administration

[I.D. 020907C]

Marine Mammals; File Nos. 715-1883 and 881-1745

AGENCY: National Marine Fisheries Service (NMFS), National Oceanic and Atmospheric Administration (NOAA), Commerce.

ACTION: Notice; issuance of permit and permit amendment.

SUMMARY: Notice is hereby given that Permit No. 715-1883 for conduct of research on northern fur seals (Callorhinus ursinus) has been issued to the North Pacific Universities Marine Mammal Research Consortium (NPUMMRC), University of British Columbia, Vancouver, B.C.; and Permit Amendment No. 881-1745-02 has been issued to the The Alaska SeaLife Center (ASLC), Seward, AK, for conduct of research on Steller sea lions (Eumetopias jubatus) in captivity at the ASLC.

ADDRESSES: The permit amendment and related documents are available for review upon written request or by appointment in the following office(s): Permits, Conservation and Education Division, Office of Protected Resources, NMFS, 1315 East-West Highway, Room 13705, Silver Spring, MD 20910; phone (301)713-2289; fax (301)427-2521; http://www.nmfs.noaa.gov/pr/permits/review.htm; and Alaska Region, NMFS, P.O. Box 21668, Juneau, AK 99802-1668; phone (907)586-7221; fax (907)586-7249.

FOR FURTHER INFORMATION CONTACT: Amy Sloan or Tammy Adams, (301)713-2289.

SUPPLEMENTARY INFORMATION: On February 15, 2007, notice was published in the Federal Register (72 FR 7420) that a request for a scientific research permit and permit amendment to take the species identified above had been submitted by the above-named institutions, respectively. The requested permit and permit amendment have been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.), as applicable.

Permit No. 715-1883 issued to NPUMMRC authorizes the capture in Alaska and export to Canada of up to 6 female juvenile fur seals for captive research on nutritional physiology.

Permit Amendment No. 881-1745-02 authorizes captive breeding and research on captive Steller sea lions held at the ASLC related to studies on the physiology of gestation and lactation. This is in addition to already permitted studies, which include condition assessments, endocrinology and immunology studies, metabolism studies, and studies of foraging behavior.

The permit and permit amendment are valid through August 1, 2009, and contain requirements for coordination and monitoring of research as well as mitigation measures deemed appropriate by NMFS. The permit and permit amendment cannot be amended or extended.

In compliance with the National Environmental Policy Act of 1969 (42 U.S.C. 4321 et seq.), a Programmatic Environmental Impact Statement (PEIS) for Steller Sea Lion and Northern Fur Seal Research was prepared to evaluate the potential environmental impacts of awarding grants and issuing permits to facilitate research on these species. Information about the PEIS is available at http://www.nmfs.noaa.gov/pr/permits/eis/steller.htm.

Issuance of the permit to the ASLC, as required by the ESA, was based on a finding that the permit: (1) was applied for in good faith; (2) will not operate to the disadvantage of such endangered species; and (3) is consistent with the purposes and policies set forth in section 2 of the ESA.

Dated: July 19, 2007.
P. Michael Payne,
Chief, Permits, Conservation and Education Division, Office of Protected Resources, National Marine Fisheries Service.

[FR Doc. E7-14457 Filed 7-25-07; 8:45 am]

BILLING CODE 3510-22-S